DEPARTMENT OF HEALTH AND HUMAN SERVICES

Office of Inspector General

Program Exclusions: August 2005

AGENCY: Office of Inspector General, HHS.

ACTION: Notice of program exclusions.

During the month of August 2005, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name, address | Effective date
PROGRAM-RELATED CONVICTIONS
ADONIZIO, CHARLES | 9/20/2005
WILKES-BARRE, PA
BENN, STANLEY | 9/20/2005
BALTIMORE, MD
BOTKIN, JACQUI | 9/20/2005
DAVIE, FL
BROOMFIELD, ERNEST | 9/20/2005
COLUMBUS, OH
BROWN, MICHAEL | 9/20/2005
CORINTH, TX
BUSTILLOS, FLORA | 9/20/2005
LA PUENTE, CA
BYRD, MICKIE | 9/20/2005
OXFORD, OH
CALIP, HERMELINA | 9/20/2005
SUISUN, CA
CALLETANO, ALBERTO | 9/20/2005
SONOMA, CA
CAMPOS, REYNA | 9/20/2005
NORTH HOLLYWOOD, CA
CARR, JULIA | 9/20/2005
SALEM, OR
CARROLL, JO | 9/20/2005
WILDWOOD, MO
CASALE, ROBERT | 9/20/2005
HAR TSDALE, NY
CHANDLER, MICHELLE | 9/20/2005
ELLENSBURG, WA
CHANGE OF HEART INC | 9/20/2005
KANSAS CITY, MO
CHILLICOTHE YOUTH SERVICES, LLC | 9/20/2005
CHILLICOTHE, MO
COOPER, JENNIFER | 9/20/2005
MARIETTA, SC
COWAN, JANET | 9/20/2005
DAVENPORT, IA
CRIST, BARBARA | 9/20/2005
WESTERVILLE, OH
CRUZ-NATAL, MILDRED | 9/20/2005
BOCA RATON, FL
DI BIASE, JILL | 9/20/2005
VERGENNES, VT
DUDLEY, CLARENCE | 9/20/2005
NEW IBERIA, LA
EASTON, ALBERTA | 9/20/2005
JACKSONVILLE, FL
EDWARDS (SOLOMON), NATASHA | 9/20/2005
GOLDSBORO, NC
ELLIS, BRIAN | 9/20/2005
KANSAS CITY, MO
FERNANDEZ, ANA | 9/20/2005
MIAMI, FL
FILCHECK, WILIIAM | 9/20/2005
UNIONTOWN, PA
FITZGERALD, TAMARA | 9/20/2005
HOUSTON, TX
FLETCHER, PATRICIA | 9/20/2005
NEWTON, IA
FUENTES, EVILIA | 9/20/2005
ROSEMEAD, CA
GODARD, CHRISTOPHER | 9/20/2005
UNIONTOWN, OH
GONZALEZ, ALBERTO | 9/20/2005
MIAMI, FL
HALSTEAD, RONALD | 9/20/2005
ELKVILLE, IL
HAMES, ROBBIE | 9/20/2005
FORT WORTH, TX
HARRIS, APRIL | 9/20/2005
WARREN, OH
HENRY, SHIRLEEN | 9/20/2005
BRONX, NY
HERNANDEZ, MARIA | 9/20/2005
MIRAMAR, FL
HIRSCH, SUSAN | 9/20/2005
WANTAUGH, NY
HODGES, CORVALIS | 9/20/2005
OXON HILL, MD
HOLLAND, MONICA | 9/20/2005
RIALTO, CA
HOWARD, AMY | 9/20/2005
DAVENPORT, IA
INGEMUNSON, TRIXIE | 9/20/2005
SIOUX FALLS, SD
ISLAS, MARIA | 9/20/2005
CALIPATRIA, CA
JACKSON, CLEMIS | 9/20/2005
BEAUMONT, TX
JACOBS, JOHNETTA | 9/20/2005
DETROIT, MI
JANATI, ABDORASOOL | 9/20/2005
CUMBERLAND, MD
JANATI, FOROUZANDEH | 9/20/2005
PHILADELPHIA, PA
JIN, KYO | 9/20/2005
CALIPATRIA, CA
JOHNSON, KELLION | 9/20/2005
ROUND ROCK, TX
JONES, CONNIE | 9/20/2005
WESTERVILLE, OH
KAI, LYLE | 1/20/2004
KILUA, HI
KIM, SUNG | 9/20/2005
CERRITOS, CA
KINNEY, ANGELA | 9/20/2005
NEW ORLEANS, LA
KIRKBRIDE, CHRISTINA | 9/20/2005
ZANESVILLE, OH
LEVY, EDWARD | 9/20/2005
FOREST HILLS, NY
LIM, JOHN | 9/20/2005
WASCO, CA
LOS ANGELES TREATMENT SERVICES, INC | 9/20/2005
LOS ANGELES, CA
LOVELACE, KENNETH | 9/20/2005
LOS ANGELES, CA
MARRERO-ARCELAY, CARMEN | 9/20/2005
BAYAMON, PR
MAUS, CHRISTOPHER | 9/20/2005
LAKE MARY, FL
MAYO, JULIO | 9/20/2005
PETALUMA, CA
MCGAHEE, BERNARD | 9/20/2005
SAVANNAH, GA
MEYER, JEANIFER | 9/20/2005
LA JUNTA, CO
MILLER, SHELLY | 9/20/2005
BLAINE, MN
OLD RED HOOK PHARMACY, INC | 9/20/2005
BROOKLYN, NY
PETERS, RAPHAEL | 9/20/2005
PRINCETON, FL
POLLEY, LUTRICIA | 9/20/2005
LONGVIEW, TX
PRAMOJ, PONGTHEP | 9/20/2005
DOUGLAS, AZ
PRO MED SERVICES, INC | 9/20/2005
THE VILLAGES, FL
PUCKETT, MICHAEL | 9/20/2005
COLUMBUS, OH
RODRIGUEZ, ROSA | 9/20/2005
MIAMI, FL
ROLAND, SANDRA | 9/20/2005
SHAWNEE, KS
SALAZAR, REBECA | 9/20/2005
SALT LAKE CITY, UT
SELDERS, MONET | 9/20/2005
HOUSTON, TX
SMITH, MARCIA | 9/20/2005
HOUSTON, TX
STITZLEIN, SHANNON | 9/20/2005
COLUMBUS, OH
SWANSON, CRAIG | 9/20/2005
TAFT, CA
TAYLOR, JOHN | 9/20/2005
MARIETTA, GA
TAYLOR, SCOTT | 9/20/2005
MORGANTOWN, WV
TURNER, DARLENE | 9/20/2005
JACKSONVILLE, FL
TURNER, PETRA | 9/20/2005
QUITMAN, MS
VAZQUEZ-ORTIZ, ALBERTO | 9/20/2005
MAYAGUEZ, PR
VOAN, GINGER | 9/20/2005
UMPIRE, AR
WASSON, SARAH | 9/20/2005
FARMINGTON, NM
YANES, KIMBERLY | 9/20/2005
FRESNO, CA
FELONY CONVICTION FOR HEALTH CARE FRAUD
ABOUELHODA, AHMED | 9/20/2005
WOODSIDE, NY
ASTURIAS-ZARATE, ACENAS | 9/20/2005
WEST DES MOINES, IA
BALDWIN, VERONICA | 9/20/2005
MIDDLETOWN, OH
BAQUIRING, DESIREE | 9/20/2005
KAILUA, HI
BIRKHIMER, DOUGLAS | 9/20/2005
COLUMBUS, OH
CASTELLANO, MONICA | 9/20/2005
HOUSTON, TX
CLEMENTE, WALTER | 9/20/2005
POINT PLEASANT, WV
CZARNOTA, SCOTT | 9/20/2005
MONROE TWP, NJ
DARNER, MARK | 9/20/2005
SEAGOVILLE, TX
DODGEN, NEIL | 9/20/2005
WEST BRANCH, IA
FOWLER, MICHELLE | 9/20/2005
WILLINGBORO, NJ
GILLHAM, LAMONT | 9/20/2005
LINCOLN, NE
GODDARD, ANDREW | 9/20/2005
CANAL FULTON, OH
GUREVICH, NATALIA | 9/20/2005
ASTORIA, NY
IORI, MARK | 9/20/2005
BATAVIA, OH
IVERSON, JESSICA | 9/20/2005
SIOUX CITY, IA
KEARSE, ROBERTA | 9/20/2005
BROOKLYN, NY
KOHLL, LOUIS | 9/20/2005
OMAHA, NE
LUBAN, ARTHUR | 9/20/2005
BROOKLYN, NY
MCELROY, ROBIN | 9/20/2005
W CARROLLTON, OH
PLYMESSER, RESHELL | 9/20/2005
GRAND JUNCTION, CO
STACY, KENNETH | 9/20/2005
PORTLAND, OR
STALEY, KEVIN | 9/20/2005
OVERLAND PARK, KS
TAUSCHEK, JENNIFER | 9/20/2005
TUCKERTON, NJ
TUCKER, HELEN | 9/20/2005
CHANDLER, AZ
VULTAGGIO, DOROTHY | 9/20/2005
WEST CHESTER, OH
ZARATE, JESUS | 9/20/2005
WEST DES MOINES, IA
ZEBRASKY, CHRISTIAN | 9/20/2005
HARTLAND, WI
FELONY CONTROL SUBSTANCE CONVICTION
CASTLE, CHRISTOPHER | 9/20/2005
SEYMOUR, TN
CLARK, NELDA | 9/20/2005
JONESBORO, AR
COUTS, ANGELA | 9/20/2005
SEDALIA, MO
DAVIS, MARLOU | 9/20/2005
ST LOUIS, MO
DEWILDE, STEVEN | 9/20/2005
ALGONAC, MI
EWING, SHERRI | 9/20/2005
LAME DEER, MT
GEBBIA, DANIEL | 9/20/2005
MINERSVILLE, PA
GONZALEZ, ROSE | 9/20/2005
CORCORAN, CA
HURWITZ, WILLIAM | 9/20/2005
CUMBERLAND, MD
KACHLANY, MATTHEW | 9/20/2005
BOYNTON BEACH, FL
LAKATOS, GEORGIANNE | 9/20/2005
LAKE STATION, IN
MAGEE, URSULA | 9/20/2005
DALLAS, TX
MASTROKOSTAS, ATHANASIOS | 9/20/2005
STATEN ISLAND, NY
MATTHEWS, DIANA | 9/20/2005
PORT ST LUCIE, FL
MCCLAIN, KILEY | 9/20/2005
WEST JORDAN, UT
MONDAY, KIMBERLY | 9/20/2005
LIMA, OH
ONOWU, IKECHUKWU | 9/20/2005
MORGANTOWN, WV
PATTERSON, CHARLOTTE | 9/20/2005
ARLINGTON, TX
PERALES, VALENTINE | 9/20/2005
FT STOCKTON, TX
POTETTI, KEITH | 9/20/2005
GLENVIEW, IL
POWELL, DANA | 9/20/2005
MILTON, FL
ROBINSON, MARILEE | 9/20/2005
DAYTONA BEACH, FL
ROMO, NUBIA | 9/20/2005
PHOENIX, AZ
SCHEYER, WILLIAM | 9/20/2005
KIRKLAND, WA
STEED, REGINALD | 9/20/2005
LOS ANGELES, CA
WILLIAMS, FORTUNE | 9/20/2005
OAKLAND, CA
PATIENT ABUSE/NEGLECT CONVICTIONS
ANDERSON, CARMEN | 9/20/2005
BENTON HARBOR, MI
ANDERSON, TERRIE | 9/20/2005
NORWOOD, LA
ASATO, DICKIE | 9/20/2005
HONOLULU, HI
BAIGELMAN, LEE | 9/20/2005
CORAL SPRINGS, FL
BOWERMAN, COLIN | 9/20/2005
OLATHE, CO
BROWN, ELLA | 9/20/2005
NORWOOD, LA
CAMPBELL, OZA | 9/20/2005
TRENTON, TN
CARSON, LATIASHA | 9/20/2005
HOUMA, LA
CHANDLER, BERRY | 9/20/2005
MANDEVILLE, LA
DAVIDSON, DONALD | 9/20/2005
VALLEY CENTER, CA
DOMAGALA, REBECCA | 9/20/2005
DULUTH, MN
FETTERHOFF, AMANDA | 9/20/2005
FANSHAWE, OK
FITZ, REBECCA | 9/20/2005
BOONE, IA
GADDIS, GINA | 9/20/2005
SUPERIOR, CO
GARGANO, KATIE | 9/20/2005
CHISHOLM, MN
HALLAM, MIGDALIA | 9/20/2005
EAST UTICA, NY
HARO, ARLENE | 9/20/2005
HEMET, CA
HILL, BETTY | 9/20/2005
DES MOINES, IA
KIEKLAK, GERALD | 9/20/2005
EUGENE, OR
LIPSEY, JOYCE | 9/20/2005
PLANTERSVILLE, MS
MORROW, JESSE | 9/20/2005
DUCHESNE, UT
PEETE, DANIEL | 9/20/2005
BETHANY, OK
POPE, BRIAN | 9/20/2005
EVERETT, WA
PORDASH, DARRIN | 9/20/2005
MANSFIELD, OH
RIOS, LINDA | 9/20/2005
BRIGHTON, CO
ROBERSON, ROSE | 9/20/2005
SHREVEPORT, LA
ROBINSON, CAROLYN | 9/20/2005
JACKSON, TN
SALINAS, FABIAN | 9/20/2005
ANN ARBOR, MI
SCHOLTUS, LOREE | 9/20/2005
OTTUMWA, IA
SCHOTT, DEBORAH | 9/20/2005
ALFRED, ND
SHAW, WILLIE | 9/20/2005
BROWNSVILLE, TN
SMITH, CAROL | 9/20/2005
PAONIA, CO
STEWART, MARY | 9/20/2005
BATON ROUGE, LA
THOMAS, HELEN | 9/20/2005
CRAWFORD, MS
TRAVERSO, JOSEPH | 9/20/2005
W ORANGE, NJ
VAGSHENIAN, GREGORY | 9/20/2005
AUSTIN, TX
WASHINGTON, YVONNE | 9/20/2005
LAWTON, OK
WILLIAMS, SIDNEY | 9/20/2005
APPLE VALLEY, MN
CONVICTION FOR HEALTH CARE FRAUD
CORKERY, JOSEPH | 9/20/2005
PENACOOK, NH
EKELUIS, ANETTE | 9/20/2005
NEWPORT BEACH, CA
GRUBBS, MARY | 9/20/2005
NEW ORLEANS, LA
HAGEN, BRENDA | 9/20/2005
AUSTIN, TX
KETCHUM, DAN | 9/20/2005
ALLENDALE, MI
LOVELACE, ELSIE | 9/20/2005
ANN ARBOR, MI
MARTINEZ, ARTURO | 9/20/2005
LOS ANGELES, CA
TELLINGHUISEN, TONYA | 9/20/2005
SAC CITY, IA
CONTROLLED SUBSTANCE CONVICTIONS
BROWN, KRISTY | 9/20/2005
CHANNELVIEW, TX
LICENSE REVOCATION/SUSPENSION/SURRENDERED
ABURTO, PATRICIA | 9/20/2005
MIAMI, FL
ACO PHARMACY, INC | 9/20/2005
MIAMI, FL
ADAMS, MARK | 9/20/2005
JACKSON, MO
ADLER, STEPHEN | 9/20/2005
MOLINE, IL
ALEXANDER, ALAN | 9/20/2005
MEMPHIS, TN
ALNE, CYNTHIA | 9/20/2005
BOTHELL, WA
ANDERSON, NANCY | 9/20/2005
GOLDEN, CO
ANDREWS, GEORGE | 9/20/2005
TEMPLETON, MA
BADOUR, JOAN | 9/20/2005
MESA, AZ
BAROUD, KHALIL | 9/20/2005
CRIVITZ, MI
BASKA, ROBERT | 9/20/2005
ALPHARETTA, GA
BEARDSLEY, DAVID | 9/20/2005
RICHLAND, WA
BEAVER, MICHELE | 9/20/2005
SOUTH HOUSTON, TX
BECKMAN, LINDSEY | 9/20/2005
LITTLETON, CO
BENHAM, THERESA | 9/20/2005
SAN DIEGO, CA
BICKEL, GORDON | 9/20/2005
CLARKSVILLE, TN
BISHOP, CURTIS | 9/20/2005
ATTICA, MI
BOBERSKY, ANDREA | 9/20/2005
SCRANTON, PA
BOGGESS, DELANA | 9/20/2005
DUNBAR, WV
BOLINGER, ROY | 9/20/2005
KNOXVILLE, TN
BONHOMME, LOUVEDOR | 9/20/2005
IMMOKALEE, FL
BOOKER, MONICA | 9/20/2005
PHOENIX, AZ
BOOTH, JOHN | 9/20/2005
BURLINGTON, NC
BOWERS, DIONNA | 9/20/2005
ROCKLIN, CA
BRACKEN, DANIEL | 9/20/2005
CINCINNATI, OH
BRECKENRIDGE, CATHY | 9/20/2005
PASADENA, TX
BRISCOE, PENNY | 9/20/2005
IMPERIAL BEACH, CA
BUCHANAN, ROBIN | 9/20/2005
TEMPE, AZ
BUCKMASTER, ANDREA | 9/20/2005
SARASOTA, FL
BURGDORF, NANCY | 9/20/2005
HUTTO, TX
BURKE, BRIAN | 9/20/2005
BERKELEY, CA
BUTLER, KERI | 9/20/2005
ERWIN, NC
CARDONA, CELIA | 9/20/2005
FONTANA, CA
CASEY, CARLIE | 9/20/2005
BELLINGHAM, WA
CESAR, PEREZ | 9/20/2005
TAMPA, FL
CHAPELO, KATHRYN | 9/20/2005
SPINDALE, NC
CHAPMAN, ROSALIE | 9/20/2005
SAN DIEGO, CA
CLEMENTS, JACQUELIN | 9/20/2005
TUCSON, AZ
CLEMONS, CHRISTEL | 9/20/2005
DUNLAP, TN
COLE, JAMIE | 9/20/2005
HELENA, MT
COPAS, GLENDA | 9/20/2005
GLENDALE, AZ
CORNETTE, JACKIE | 9/20/2005
FLORAHOME, FL
CRABTREE, ANDREA | 9/20/2005
NAMPA, ID
CRASE, ANNE | 9/20/2005
CENTRALIA, IL
CRASE, JEANNIE | 9/20/2005
OAK GROVE, MO
CRAWFORD, TODD | 9/20/2005
MARINE ON ST. CROIX, MN
CROWDER, MICHAEL | 9/20/2005
SAN MANUEL, AZ
CUNNEEN, PETER | 9/20/2005
TARRYTOWN, NY
CURTIS, DORIS | 9/20/2005
WINCHESTER, KY
DALTON, TERRY | 9/20/2005
BIRMINGHAM, AL
DANGL, KURT | 9/20/2005
SARASOTA, FL
DARLINGTON, JASON | 9/20/2005
CLINTON, UT
DARNELL, CHRISTIE | 9/20/2005
FARMINGTON, KY
DAVIS, TONYA | 9/20/2005
BONIFAY, FL
DEAN, KATHLEEN | 9/20/2005
PHOENIX, AZ
DERAMUS, MELANIE | 9/20/2005
MONTGOMERY, AL
DETWEILER, MICHAEL | 9/20/2005
SECOR, IL
DICKENSON, MICHAEL | 9/20/2005
COOKEVILLE, TN
DODENHOFF, KATHRYN | 9/20/2005
ROCKLAND, MA
DONNELL, JANICE | 9/20/2005
RIDGEWAY, IL
DUNCAN, KIMBERLY | 9/20/2005
CAMDEN, TN
DYER, LEANNE | 9/20/2005
TRENTON, KY
EDMUND, ANTHONY | 9/20/2005
CHANDLER, AZ
EICHELBERGER, ANGELA | 9/20/2005
PINNACLE, NC
ELLIOTT, JOHN | 9/20/2005
DENVER, CO
EMRICK, TINA | 9/20/2005
FRANKFORT, KY
ENRIQUE, YVETTE | 9/20/2005
CARSON, CA
ESCOBAR, GLADYS | 9/20/2005
BUENA PARK, CA
EVENSEN, VERNA | 9/20/2005
PHOENIX, AZ
EVERY, MARY | 9/20/2005
ROCK HILL, SC
EYRE, COLLEEN | 9/20/2005
CEDAREDGE, CO
FANDERS, BRIAN | 9/20/2005
OMAHA, NE
FARRELL, JANET | 9/20/2005
WORCESTER, MA
FEAZELL, SANDRA | 9/20/2005
PALM SPRINGS, CA
FILLYAW, WALTER | 9/20/2005
PANAMA CITY, FL
FLANAGAN, MARY | 9/20/2005
LITTLETON, CO
FLEMING, MAXWELL | 9/20/2005
WEWAHITCHKA, FL
FLOOD, BARBARA | 9/20/2005
BAILEY, CO
FRANCIS, LAURA | 9/20/2005
MANSFIELD, MA
FRANKLIN, KRYSTAL | 9/20/2005
SAN BERNARDINO, CA
FREEHAUF-NORTON, VESTA | 9/20/2005
FARGO, ND
GADSBY, VYNOLA | 9/20/2005
CLAREMONT, CA
GALLAGHER, WALTER | 9/20/2005
SUMMIT, NJ
GARRISON, PATRICIA | 9/20/2005
LOUISVILLE, KY
GILL, PATRICIA | 9/20/2005
INDIANAPOLIS, IN
GORSUCH, KRISTEN | 9/20/2005
PITTSBURGH, PA
GRAJEDA, LUPE | 9/20/2005
TUCSON, AZ
GRAVES, RICHARD | 9/20/2005
SALT LAKE CITY, UT
GREENE, MICHAEL | 9/20/2005
JONESBOROUGH, TN
GRIFFITH, PAMELA | 9/20/2005
NEVADA, IA
GRIMM, CHADWICK | 9/20/2005
PACIFIC, MO
GROSSMAN, WARREN | 9/20/2005
SHAKER HEIGHTS, OH
GUTIERREZ, PATRICIA | 9/20/2005
ARMONA, CA
HARBECKE, LINDA | 9/20/2005
SEBRING, FL
HARDING, MERIJANE | 9/20/2005
CLEAR CREEK, IN
HATFIELD, LEWAN | 9/20/2005
SHELTON, WA
HAWRYLAK, AMY | 9/20/2005
PALMER, AK
HAYES, SHELLI | 9/20/2005
EPPING, ND
HEAD-PELE, IRENE | 9/20/2005
SAN DIEGO, CA
HENSHAW, PATTY | 9/20/2005
EVANSVILLE, IN
HILL, SALLY | 9/20/2005
MATTHEWS, NC
HINKLE, RICHARD | 9/20/2005
MAYWOOD, IL
HITT, LINDA | 9/20/2005
DUNNELLON, FL
HSU, GEORGE | 9/20/2005
ELGIN, ND
HUBBARD, CONNIE | 9/20/2005
OCEAN SPRINGS, MS
HULL, CYNTHIA | 9/20/2005
BOISE, ID
HYMAN, JESSICA | 9/20/2005
HOUSTON, TX
ILIOU, CLAUDE | 9/20/2005
PORT CHARLOTTE, FL
INGLE, JANICE | 9/20/2005
AVON, IN
INSEL, JONATHAN | 9/20/2005
EAST GREENBUSH, NY
ISAACS, VICTOR | 9/20/2005
SCOTT CITY, MO
ISENBERG, REBECCA | 9/20/2005
FOWLER, IN
JAQUES, DIONNE | 9/20/2005
ST. GEORGE, UT
JENNINGS, VERA | 9/20/2005
SACRAMENTO, CA
JOHNSON, KELLY | 9/20/2005
JOPLIN, MO
JOHNSON, SHEMECKA | 9/20/2005
SELMA, AL
JOHNSTON, MARY | 9/20/2005
WALPOLE, MA
JONES, DONNA | 9/20/2005
LAKE JACKSON, TX
JONES, GARY | 9/20/2005
DOTHAN, AL
KELLEY, ARTINA | 9/20/2005
LANSING, MI
KING, NANCY | 9/20/2005
FLORISSANT, MO
KIRKHAM, JAN | 9/20/2005
COACHELLA, CA
KLARICH, RENA | 9/20/2005
NASHVILLE, TN
KLOSE, ROGER | 9/20/2005
PEORIA, AZ
KOUZBARI, MELANIE | 9/20/2005
TULSA, OK
KREITEL, TRACY | 9/20/2005
GRAND FORKS, ND
KUELLENBERG, CAROLINE | 9/20/2005
MONTE VISTA, CO
LAMBERT, SANDRA | 9/20/2005
WEST JEFFERSON, NC
LANE, WILLIAM | 9/20/2005
BILLERICA, MA
LANGE, JULIE | 9/20/2005
WEBSTER, MA
LANIER, DONNA | 9/20/2005
MULBERRY, FL
LATHRAM, MARCIA | 9/20/2005
LOUISVILLE, KY
LAWSON, LINDA | 9/20/2005
FAIRLAND, OK
LEAK, SCOTT | 9/20/2005
REDDING, CA
LEE, JANET | 9/20/2005
INDIANAPOLIS, IN
LEE, SCHAWNEEQUA | 9/20/2005
PORT ARTHUR, TX
LESSNER, HOWARD | 9/20/2005
MIAMI, FL
LIVELY, MEGAN | 9/20/2005
SARDIS, OH
LONG, JACQUIELINE | 9/20/2005
ROXBORO, NC
LOPEZ, ANA | 9/20/2005
MAYWOOD, CA
MACCABEE, NETA | 9/20/2005
NEW YORK, NY
MAISH, JAMES | 9/20/2005
AUGUSTA, GA
MARTIN, PAMELA | 9/20/2005
XENIA, OH
MARTIN, SUSAN | 9/20/2005
PHILADELPHIA, PA
MARTINEZ, JO | 9/20/2005
LOS ANGELES, CA
MAUDLIN, RIKKI | 9/20/2005
TUCSON, AZ
MAURO, MARIANNE | 9/20/2005
E BRUNSWICK, NJ
MCCORMACK, CHERYL | 9/20/2005
SPRINGFIELD, MO
MCGUIRE, SCOTT | 9/20/2005
MURRAY, UT
MELTON, KERRI | 9/20/2005
PINE BLUFF, AR
MESSINA, JESSICA | 9/20/2005
PHOENIX, AZ
MILES, DIANE | 9/20/2005
MAX, ND
MILES, JANET | 9/20/2005
MINOT, ND
MURPHY, CHARLES | 9/20/2005
STREATOR, IL
MYERS, JEAN | 9/20/2005
LODI, CA
NAVA, HECTOR | 9/20/2005
SAN ANTONIO, TX
NELSON-FORBES, VICKI | 9/20/2005
SAINT ANTHONY, IA
NESBY, KIMBERLY | 9/20/2005
MONTGOMERY, AL
NEWCOMB, ROGER | 9/20/2005
MURRAY, UT
NEWTON, ED | 9/20/2005
SCOTTSDALE, AZ
NICHOLAS, HUNTER | 9/20/2005
BISMARCK, ND
NONU, SOOGA | 9/20/2005
KEARNS, UT
O'DONOGHUE, TINA | 9/20/2005
ORANGE PARK, FL
ORR, LARRY | 9/20/2005
MURRAY, KY
OVERTON, LUANNE | 9/20/2005
GREENEVILLE, KY
PANETTIERE, PAULA | 9/20/2005
THORSBY, AL
PARKER, TIMOTHY | 9/20/2005
EAGER, AZ
PARKER, TYANA | 9/20/2005
MESA, AZ
PARTNER, MICHELLE | 9/20/2005
WEAVER, AL
PATE, MARY | 9/20/2005
MOBILE, AL
PELTO, STEPHEN | 9/20/2005
KINCHELOE, MI
PERRY, JENNIFER | 9/20/2005
EIGHT MILE, AL
PETOELLO, ANNE | 9/20/2005
NEW YORK, NY
POSTAJIAN, JON | 9/20/2005
GLENDALE, CA
PRITCHARD, CHARLES | 9/20/2005
BETTENDORF, IA
PUCCI, BRIAN | 9/20/2005
PINE BROOK, NJ
RAKOFF, AMY | 9/20/2005
HOPEWELL JUNCTION, NY
RAMKE, REBECCA | 9/20/2005
PORT NECHES, TX
RATLIFF, JAMIE | 9/20/2005
SPRING HILL, FL
READER, MELISSA | 9/20/2005
BOCA RATON, FL
REASER, SUSAN | 9/20/2005
PUYALLUP, WA
REDDOCK, LYNDA | 9/20/2005
PONTE VEDRA BEACH, FL
REDMAN, PAMELA | 9/20/2005
DENVER, CO
REED, MARK | 9/20/2005
LAS VEGAS, NV
ROBERTS, ELEANOR | 9/20/2005
PROSPECT PARK, PA
RODRIGUEZ, EDWIN | 9/20/2005
CHULA VISTA, CA
ROMANO, CATHY | 9/20/2005
HOUSTON, TX
ROTHSTEIN, BINYAMIN | 9/20/2005
BALTIMORE, MD
RUSCH, JAMIE | 9/20/2005
OMAHA, NE
SALGADO, KIMBERLY | 9/20/2005
LAND O LAKES, FL
SANCHEZ, IDA | 9/20/2005
PHOENIX, AZ
SANCHEZ, MARTIN | 9/20/2005
WATSONVILLE, CA
SAULTER, CAROLYN | 9/20/2005
HODGES, AL
SAVAGE, MILDRED | 9/20/2005
INDIANAPOLIS, IN
SCHIERBAUM, DONNA | 9/20/2005
FT WALTON BEACH, FL
SCHOLL, DARLA | 9/20/2005
TEMPE, AZ
SCHOUBROEK, MELISSA | 9/20/2005
HOUSTON, TX
SCHUMACHER, DENYSE | 9/20/2005
CEDAR FALLS, IA
SERGI, ELIZABETH | 9/20/2005
PLEASANT HILL, IA
SIMMONS, MICHELLE | 9/20/2005
BRADENTON, FL
SKAGGS, TAMMY | 9/20/2005
GLENDALE, AZ
SKIDMORE, AMY | 9/20/2005
WESTLAND, MI
SMITH, AMBER | 9/20/2005
MEMPHIS, TN
SMITH, JILLIAN | 9/20/2005
COLLINWOOD, TN
SMITH, JIMMY | 9/20/2005
CHICAGO, IL
SMITH, KAREN | 9/20/2005
CAPE CORAL, FL
SMITH, REBECCA | 9/20/2005
MESA, AZ
SORENSEN, FRED | 9/20/2005
PHOENIX, AZ
SPAULDING, BRADLEY | 9/20/2005
VESTAL, NY
SPEARMAN, ROSE | 9/20/2005
PROVIDENCE, RI
SPIVEY, CHERYL | 9/20/2005
ERLANGER, KY
SPRONK, NICOLE | 9/20/2005
ROY, UT
STABLER, MITZI | 9/20/2005
WHATLEY, AL
STAGGS, STACEY | 9/20/2005
PLATTE CITY, MO
STEINMETZ, MALIA | 9/20/2005
SUNMAN, IN
STEPHENSON, DAVID | 9/20/2005
UTICA, NY
STOCKER, MICHAEL | 9/20/2005
DES MOINES, IA
STROWBRIDGE, MELISSA | 9/20/2005
ORLANDO, FL
STUART, JASON | 9/20/2005
YUMA, AZ
STURDIVANT, PATRICIA | 9/20/2005
PUNTA GORDA, FL
SUSTER, STUART | 9/20/2005
N SALEM, NY
SUTTER, DEANNA | 9/20/2005
BISMARCK, ND
SYX, RANDAL | 9/20/2005
BIRMINGHAM, AL
TANNER, DAVID | 9/20/2005
PLYMOUTH, IN
TANNER, WADE | 9/20/2005
ELIZABETHTON, TN
THOMAS, ANGELINA | 9/20/2005
CARBON HILL, AL
THOMPSON, AMY | 9/20/2005
MARYSVILLE, OH
TICE, LINDSEY | 9/20/2005
BRIDGETON, NJ
TIJERINA, ANNA | 9/20/2005
HARLINGEN, TX
TINCHER, TREVA | 9/20/2005
STANFORD, KY
TODD, ELLEN | 9/20/2005
NEW PORT RICHEY, FL
TORRES, FERNANDO | 9/20/2005
MADISON, TN
TROIANO, WILLIAM | 9/20/2005
BRIGHTON, MA
TUCKER, MARK | 9/20/2005
TERRE HAUTE, IN
TUNIS, SEAN | 9/20/2005
BALTIMORE, MD
TYSON, BARBARA | 9/20/2005
CHICAGO, IL
UBSDELL, DIANA | 9/20/2005
BELLEAIR BLUFFS, FL
UFFELMAN, NORMA | 9/20/2005
GAINESVILLE, FL
VALLA, WENDY | 9/20/2005
WILLISTON, ND
WEBB, SAMANTHA | 9/20/2005
PEARLAND, TX
WELCH, LUCIUS | 9/20/2005
WEST PALM BEACH, FL
WERRE, STACY | 9/20/2005
BISMARCK, ND
WHEELER, TAMRA | 9/20/2005
SANDY HOOK, KY
WHITE, AMY | 9/20/2005
TUCSON, AZ
WHITTEN, JUDY | 9/20/2005
HUMBLE, TX
WILLIAMS, RONALD | 9/20/2005
LAS VEGAS, NV
WILSON, CARROLL | 9/20/2005
JONESBORO, IL
WISSINGER, WILLIAM | 9/20/2005
HOBE SOUND, FL
WOOD, AMANDA | 9/20/2005
BOURBONNAIS, IL
WRIGHT, DUFF | 9/20/2005
GERMANTOWN, TN
YOUNG, LESLIE | 9/20/2005
PHOENIX, AZ
ZARAGOZA, YESENIA | 9/20/2005
AVONDALE, AZ
FRAUD/KICKBACKS/PROHIBITED ACTS/SETTLEMENT AGREEMENTS
CARESOUTH CLINIC, PC | 7/22/2005
JACKSON, TN
FULCRUM SERVICES, INC | 11/15/2002
TAMPA, FL
G S CARE, CORP | 11/15/2002
TAMPA, FL
GLOBAL MOBILITY, INC | 11/15/2002
LARGO, FL
GOLDSTAR HEALTHCARE, INC | 11/15/2002
TAMPA, FL
NORTH STAR INDUSTRIES, INC | 11/15/2002
LUTZ, FL
NORTH STAR OIL AND GAS, INC | 11/15/2002
SMITHVILLE, WV
TRIDENT DISTRIBUTORS, INC | 11/15/2002
TAMPA, FL
OWNED/CONTROLLED BY CONVICTED ENTITIES
CALIFORNIA COSMETIC DENTISTRY | 9/20/2005
LOS ANGELES, CA
CESAR E PEREZ, MD, PA | 9/20/2005
ST PETERSBURG BEACH, FL
COSEMETIC PLASTIC SURGERY CENTER OF SARASOTA | 9/20/2005
SARASOTA, FL
SUNG WOOK KIM, DDS, INC | 9/20/2005
LOS ANGELES, CA
SUNRISE CENTER, INC | 9/20/2005
SHAWNEE, KS
THOMAS R GONZALES, DDS, LTD | 9/20/2005
LAS VEGAS, NV
DEFAULT ON HEAL LOAN
DANIEL, RONALD | 9/20/2005
DUNCANVILLE, TX
FISCHER, ERNIE | 9/20/2005
GRAND RAPIDS, MI
GALLEBERG, DAVID | 8/2/2005
FOREST LAKE, MN
HECKLER, RODNEY | 8/11/2005
WHEATON, IL
THOMPSON, RUSSELL | 9/20/2005
HASLETT, MI
OWNERS OF EXCLUDED ENTITIES
SPENCER, EDWARD | 9/20/2005
KILLEEN, TX

Dated: September 1, 2005.
Katherine B. Petrowski,
Director, Exclusions Staff, Office of Inspector General.

[FR Doc. 05-18379 Filed 9-15-05; 8:45 am]

BILLING CODE 4152-01-P